DEPARTMENT OF TRANSPORTATION

Federal Aviation Administration

[Docket No. 2023-2061]

Agency Information Collection Activities: Requests for Comments; Clearance of a Renewed Approval of Information Collection: Commercial Air Tour Operator Reports

AGENCY: Federal Aviation Administration (FAA), DOT.

ACTION: Notice and request for comments; correction.

SUMMARY: The FAA published a document in the Federal Register of February 24, 2024, concerning request for comments on a request for Office of Management and Budget (OMB) approval to renew an information collection. The document contained an incorrect sentence.

FOR FURTHER INFORMATION CONTACT: Sandra Fox by email at: sandra.y.fox@faa.gov; phone 202-267-0928.

SUPPLEMENTARY INFORMATION:

Correction

In the Federal Register of February 26, 2024, in FR Doc. 2024-03880, on page 14126 in the second column, correct the last sentence of the Background section to read:

Operators complete the information on a reporting template and provide it either by email or mail to the agencies.

Issued in Washington, DC, on February 26, 2024.
Sandra Fox,
Environmental Protection Specialist, FAA Office of Environment and Energy.

[FR Doc. 2024-04315 Filed 2-29-24; 8:45 am]

BILLING CODE 4910-13-P